DEPARTMENT OF HEALTH AND HUMAN SERVICES

Centers for Disease Control and Prevention

[30-Day-19-19TG]

Agency Forms Undergoing Paperwork Reduction Act Review

In accordance with the Paperwork Reduction Act of 1995, the Centers for Disease Control and Prevention (CDC) has submitted the information collection request titled Million Hearts® Hospital/Health System Recognition Program to the Office of Management and Budget (OMB) for review and approval. CDC previously published a “Proposed Data Collection Submitted for Public Comment and Recommendations” notice on April 2, 2019 to obtain comments from the public and affected agencies. CDC received one non-substantive comment. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Million Hearts® Hospital/Health System Recognition Program—New—National Center for Chronic Disease Prevention and Health Promotion (NCCDPHP), Centers for Disease Control and Prevention (CDC).

Background and Brief Description

Million Hearts® is pleased to announce the upcoming launch of the Million Hearts® Hospital/Health System Recognition Program, a program that recognizes institutions working to systematically improve the cardiovascular health of the population and communities they serve through the priority areas of Keeping People Healthy, Optimizing Care, Improving Outcomes for Priority Populations, and Innovating for Health. Heart disease, stroke and other cardiovascular diseases (CVDs) kill over 800,000 Americans each year, accounting for one in every three deaths. CVD is the nation's number one killer among both men and women and the leading cause of health disparities across the population. Million Hearts®, a national, public-private initiative co-led by the Centers for Disease Control and Prevention (CDC) and the Centers for Medicare & Medicaid Services (CMS), was established to address this issue. The Million Hearts® Hospital/Health System Recognition Program engages, equips, and supports leading clinical institutions across the country to excel in cardiovascular health and care. Hospitals and health systems are critical to population health, given their direct connection to people at risk for CVD, as well as those who have had a cardiac or cerebrovascular event and remain at risk for having a subsequent event. Hospitals are also the largest component of the health care sector, and in total employ over 5.4 million people—the second largest source of private sector jobs. Whether migrating towards value-based reimbursement or simply striving for a significant impact in reducing the devastation of heart attacks and strokes, hospitals and health systems are positioned to improve the health of the population they serve by implementing high-impact, evidence-based strategies. Achieving a Million Hearts® Hospital/Health System designation signals a commitment to not only clinical quality, but population health overall.

CDC is requesting approval for 297 annual burden hours. There are no costs to respondents other than their time.

Estimated Annualized Burden Hours
Type of respondents | Form name | Number of respondents | Number of responses per respondent | Average burden per response (in hours)
Medical & Health Service Manager | Recognition Program Application | 100 | 1 | 160/60
Medical & Health Service Manager | Interview Guide | 60 | 1 | 30/60

Jeffrey M. Zirger,
Lead, Information Collection Review Office, Office of Scientific Integrity, Office of Science, Centers for Disease Control and Prevention.

[FR Doc. 2019-17286 Filed 8-12-19; 8:45 am]

BILLING CODE 4163-18-P